DEPARTMENT OF HOUSING AND URBAN DEVELOPMENT

[Docket No. FR-5921-N-13]

Implementation of the Privacy Act of 1974, as Amended; Notice To Amend Systems of Records, Integrated Real Estate Management System, Development Application Processing System, Tenant Rental Assistance Certification System

AGENCY: Office of Multifamily Housing, HUD.

ACTION: Notice to amend systems of records.

SUMMARY: In accordance with requirements Privacy Act of 1974, as amended, 5 U.S.C. 552a, the U.S. Department of Housing and Urban Development (HUD), Office of Multifamily Housing gives notice of its intent to amend three system of records notices (SORNS): Integrated Real Estate Management System, published in the Federal Register on August 14, 2007 at 72 FR 45442-45443, Development Application Processing System, published in the Federal Register on August 1, 2007 at 72 FR 42101-42102, Tenant Housing Assistance and Contract Verification Data, published in the FR on March 13, 1997 62 FR 11909-11910.” This notice proposal renames the “Tenant Housing Assistance and Contract Verification Data” systems of records to “Tenant Rental Assistance Certification System (TRACS)”, makes administrative updates to the systems of records location, authority, purpose, and records retention statements, refines previously published information about each notice in a clear and easy to read format, and implements a new coding structure to make it easier to differentiate a system of records from other program specific SORNs. A more detailed description of the present systems status is republished under this notice. This notice supersedes and replaces the former notice publications. The amended systems of records and their new/prior coding structures are identified below.

New coding structure | Systems of records name/prior coding structure
1. HSNG.MF/HTS.01 | Integrated Real Estate Management System (iREMS) (Previously coded HUD/MFH-10).
2. HSNG.MF.HTS.02 | Tenant Rental Assistance Certification System (TRACS) (Previously coded HUD/H-11).
3. HSNG.MF/HTHE.01 | Development Application Processing System (DAPS) (Previously coded HUD/MFH-08).

DATES: Effective Date: This action will be effective without further notice, August 22, 2016.

Comments Due Date: September 21, 2016.

ADDRESSES: Interested persons are invited to submit comments regarding this notice to the Rules Docket Clerk, Office of General Counsel, Department of Housing and Urban Development, 451 Seventh Street SW., Room 10276, Washington, DC 20410. Communications should refer to the above docket number and title. Faxed comments are not accepted. A copy of each communication submitted will be available for public inspection and copying between 8 a.m. and 5 p.m. weekdays at the above address.

FOR FURTHER INFORMATION CONTACT: Helen Goff Foster, Chief Privacy Officer/Senior Agency Official for Privacy, 451 Seventh Street SW., Room 10139, Washington, DC 20410, telephone number 202-402-6836 (this is not a toll-free number). Individuals who are hearing- and speech-impaired may access this number via TTY by calling the Federal Relay Service at 800-877-8339 (this is a toll-free number).

SUPPLEMENTARY INFORMATION: This notice satisfies the Privacy Act requirement that an agency must publish a system of records in the Federal Register when there are additional changes to a notice. The amended notices are set out in their entirety and described in detail following this section. The amended notices reflect administrative changes, as well as make minor clarification and/or editorial changes to the name and location of the record system, the authority for and manner of its operations, the categories of individuals that it covers, the type of records that it contains, and the records source sections. The notice also includes the current business address of the HUD officials who will inform interested persons of how they may gain access to and/or request amendments to records pertaining to the records themselves. The existing scope, objectives, business processes, and uses being made of the data by the Department for each notice remain unchanged.

Publication of this notice allows the Department to maintain current information about its notices in a clear and cohesive format. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information. In addition, this notice demonstrates the Department's focus on industry best practices and laws that protect interest such as personal privacy and privacy protect records from inappropriate release.

Pursuant to the Privacy Act and the Office of Management and Budget (OMB) guidelines, the amended notices do not meet threshold requirements for having to transmit a report to OMB, the Senate Committee on Homeland Security and Governmental Affairs, and the House Committee on Oversight and Government Reform, as instructed by paragraph 4c of Appendix l to OMB Circular No. A-130, “Federal Agencies Responsibilities for Maintaining Records About Individuals,” November 28, 2000.

Authority: 5 U.S.C. 552a; 88 Stat. 1896; 42 U.S.C. 3535(d).

Dated: August 16, 2016.
Helen Goff Foster,
Chief Privacy Officer/Senior Agency Official for Privacy.

SYSTEM OF RECORDS NO.:

HSNG.MF/HTS.01.

SYSTEM NAME:

Integrated Real Estate Management System (iREMS)-F24.

SYSTEM LOCATION:

The system is hosted at the HUD data center in Charleston, West Virginia. Users have on-line access to the system at the Department of Housing and Urban Development Headquarters, 451 Seventh Street SW., Washington, DC 20410, HUD Field and Regional Offices,¹ or at the locations of the service providers under contract with HUD.

¹ http://portal.hud.gov/hudportal/documents/huddoc?id=append2.pdf.

CATEGORIES OF INDIVIDUALS COVERED BY THE SYSTEM:

The categories of individuals covered by the system include external business partners approved to do Multifamily business with HUD (e.g., property owners, management agents, contract administrators, and owner/agent contacts).

CATEGORIES OF RECORDS IN THE SYSTEM:

The categories of records in the system include:

(1) Contact Information: Name, home/business address, and home/business telephone number, fax, and email address.

(2) Identification information: Social Security number (SSN) and tax identification number (TIN).

(3) Loan Servicing information: Section 8 subsidy contract renewals, property management reviews, physical condition of multifamily properties and ownership data, workload tracking of HUD staff, Departmental Enforcement Center tracking for corrective actions/referrals, and participant/partner information.

AUTHORITY FOR MAINTENANCE OF THE SYSTEM:

The Housing Act of 1937 as amended, 42 U.S.C. 1437 et seq.; CFR 24 Part 5.216 (c), and 5.216 (e); Housing and Community Development Act, 42 U.S.C § 3543, Section 165.

PURPOSE(S):

iREMS is HUD's multifamily property management tool for the Office of Multifamily Housing (MFH), the Departmental Enforcement Center (DEC), and the Real Estate Assessment Center (REAC). The goal of iREMS is to improve fiscal and regulatory control over HUD's Multifamily housing portfolio, and ensure compliance with HUD program requirements and business agreements. iREMS is the repository of HUD's data that define the portfolio of insured, subsidized, HUD-held, HUD-owned, co-insured, elderly and disabled properties, and provides portfolio management for Section 8 contracts to establish property ownership and management for physical property inspection follow-up, and financial assessment reviews. The data are used for tracking property status, loan status and characteristics, Section 8 contract renewals, and financial status of property owners. iREMS provides REAC with the ability to validate financial statement submissions and mortgagee inspections. iREMS provides DEC and the Office of Affordable Housing Preservation the ability to track corrective action referrals initiated against owners and/or properties not fully complying with HUD requirements (Owners not in full compliance may be subject to enforcement action, including civil money penalties, suspension and/or debarment, and referral to the Department of Justice). When criminal activity is suspected, cases are referred to HUD's Office of the Inspector General for investigation.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside HUD as a routine use pursuant to 5 U.S.C. 552a(b)(3) as follows:

1. To appropriate agencies, entities, and persons to the extent such disclosures are compatible with the purpose for which the records in this system were collected, as set forth by Appendix I ²—HUD's Routine Uses Inventory Notice published in the Federal Register.

² http://portal.hud.gov/hudportal/documents/huddoc?id=routine_use_inventory.pdf.

2. To appropriate agencies, entities, and persons when:

(a) HUD suspects or has confirmed that the security or confidentiality of information in a system of records has been compromised;

(b) HUD has determined that as a result of the suspected or confirmed compromise there is a risk of harm to economic or property interests, identity theft or fraud, or harm to the security or integrity of systems or programs (whether maintained by HUD or another agency or entity) that rely upon the compromised information;

(c) HUD has determined that the disclosure made to such agencies, entities, and persons is reasonably necessary to assist in connection with HUD's efforts to respond to the suspected or confirmed compromise and prevent, minimize, or remedy such harm for purposes of facilitating responses and remediation efforts in the event of a data breach.

3. To the National Archives and Records Administration (NARA) or to the General Services Administration for records management inspections conducted under 44 U.S.C. § 2904 and 2906.

4. To a congressional office from the record of an individual in response to an inquiry from that congressional office made at the request of the individual to whom the record pertains.

5. To the Department of Justice for possible enforcement action against owners or properties not complying with HUD requirements.

6. To HUD business partners (Public Housing Authorities and Community Development Corporations serving as Performance Based Contract Administrators (PBCA)) in order to fulfill their business agreements with HUD (e.g., manage their assigned Section 8 contracts).

POLICIES AND PRACTICES FOR STORING, RETRIEVING, ACCESSING, RETAINING, AND DISPOSING OF RECORDS IN THE SYSTEM:

Storage:

Records in this system are stored securely electronically or on paper in secure facilities in a locked drawer behind a locked door.

RETRIEVABILITY:

Records are retrieved mainly based on the property identification number or contract ID. However, for participant/partner information and security system access it is possible to locate data via their names and/or taxpayer identification number (TIN).

SAFEGUARDS:

Access to electronic systems is by password and code identification card access and limited to authorized users. Retrievals are only accessible via entry of a valid HUD user id and password. LDAP (light-weight directory access protocol) is used to verify external users—each must be properly registered with HUD and have an LDAP user id/password. When first gaining access to iREMS and on an annual basis, all users must agree to the systems “Rules of Behavior” which specify handling of personal information and any physical records.

RETENTION AND DISPOSAL:

Paper records are destroyed by shredding or burning. Backup and Recovery digital media will be destroyed or otherwise rendered irrecoverable per NIST SP 800-88 Revision 1 “Guidelines for Media Sanitization” (December 2014). Records and data are retained and disposed of in accordance with the HUD Records Disposition Schedules Handbook (2225.6 Rev-1), as described in Records Disposition Schedule 68, Items 2 and 3.³

³ http://portal.hud.gov/hudportal/documents/huddoc?id=22256x68ADMH.pdf)

SYSTEM MANAGER(S) AND ADDRESS:

Director, Program Systems Management Office, Office of Multifamily Housing, Department of Housing and Urban Development, 451 Seventh Street SW., Washington, DC 20410.

NOTIFICATION AND RECORD ACCESS PROCEDURES:

For information, assistance, or inquiries about the existence of records contact Helen Goff Foster, Chief Privacy Officer/Senior Agency Official for Privacy, 451 Seventh Street SW., Room 10139, Washington, DC 20410, telephone number 202-402-6836. When seeking records about yourself from this system of records or any other HUD system of records, your request must conform with the Privacy Act regulations set forth in 24 CFR part 16. You must first verify your identity by providing your full name, current address, and date and place of birth. You must sign your request, and your signature must either be notarized or submitted under 28 U.S.C. 1746, a law that permits statements to be made under penalty of perjury as a substitute for notarization. In addition, your request should:

(1) Explain why you believe HUD would have information on you.

(2) Identify which HUD office you believe has the records about you.

(3) Specify when you believe the records would have been created.

(4) Provide any other information that will help the Freedom of Information Act (FOIA) staff determine which HUD office may have responsive records.

If you are seeking records pertaining to another living individual, you must obtain a statement from that individual certifying their agreement for you to access their records. Without the above information, the HUD FOIA Office may not be able to conduct an effective search, and your request may be denied due to lack of specificity or lack of compliance with applicable regulations.

CONTESTING RECORD PROCEDURES:

The Department's rules for contesting contents of records and appealing initial denials appear in 24 CFR part 16, Procedures for Inquiries. Additional assistance may be obtained by contacting Helen Goff Foster, Chief Privacy Officer/Senior Agency Official for Privacy, 451 Seventh Street SW., Room 10139, Washington, DC 20410, or the HUD Departmental Privacy Appeals Officers, Office of General Counsel, Department of Housing and Urban Development, 451 Seventh Street SW., Room 10110 Washington, DC 20410.

RECORD SOURCE CATEGORIES:

Sources of data are contractual agreements between HUD and property owners (e.g. Regulatory Agreement, Section 8 Housing Assistance Payments (HAP) contract) and memorandums to HUD from the business partners and from other HUD source systems that transmit data to iREMS. The HUD source systems provide information to iREMS to allow Multifamily Housing the ability to track property status, loan status and characteristics, Section 8 contract renewals, and financial data concerning property owners. The source systems and their HUD functions are listed below:

(1) Development Application Processing (DAP): DAP is a comprehensive, automated underwriting system that supports processing and tracking of HUD Multifamily Housing applications from pre-application through final closing. Once the underwriting process has been completed, the information is passed along to iREMS.

(2) FHA Subsidy Ledger (FHASL): This system contains financing instrument, primary address, holding mortgagee and servicing mortgagee information.

(3) Multifamily Accounting Report and Servicing System (MARS): This system contains FHA information for Multifamily properties.

(4) Financial Assessment Subsystem (FASS): This system provides financial statements/data for all HUD owned properties.

(5) Physical Assessment Subsystem (PASS): This system holds the physical inspection data for HUD owned properties.

(6) Geo-coding Services (GSC): This system contains geo data and also provides standardized addresses for HUD owned properties.

(7) Tenant Rental Assistant Certification System (TRACS): TRACS contains Multifamily property attribute information. It also collects certified tenant data for processing from owners and management agents of Multifamily housing projects, and from local housing authorities and state housing agencies acting as subsidy contract administrators for HUD.

(8) Automatic Renewal and Amendment Management Sub-system (ARAMS): ARAMS processes and confirms Multifamily funding reservation requests for renewal and amendment subsidy contracts.

(9) Online Property Integrated Information Suite (OPIIS): OPIIS provides Risk management scores and ratings for HUD's Multifamily insured and assisted portfolio.

(10) Line of Credit Control System (LOCCS): LOCCS is a HUD grant disbursement system.

(11) Program Accounting System (PAS): PAS is an integrated subsidiary ledger for the Department's grant, subsidy, and loan programs.

(12) Northridge Loan System/Loan Accounting System (NLS/LAS): The NLS system contains loan information on HUD's properties.

(13) Active Partners Performance System (APPS): APPS is an online system that allows for submission and review of the Housing and Urban Development (HUD) Previous Participation Certification Process (Form 2530). This information is needed for the renewal process.

(14) Multifamily Insurance System MFIS: MFIS maintains the inventory of Multifamily insurance-in-force cases, as well as all pertinent and historical data, and produces premium bills and new account receivables monthly.

(15) Lender Electronic Assessment Portal (LEAP): Maintains the official record of institutions (Title I and Title II lenders) approved by HUD/Federal Housing Administration (FHA) to originate, service, or invest in FHA-insured mortgages or loans.

SYSTEM EXEMPTED FROM CERTAIN PROVISIONS OF THE ACT:

None.

SYSTEM OF RECORDS NO.:

HSNG/MF.HTS.02.

SYSTEM NAME:

Tenant Rental Assistance Certification System (TRACS)—F87.

SYSTEM LOCATION:

The system is hosted at the HUD data center in Charleston, West Virginia. Users have on-line access to the system at the Department of Housing and Urban Development Headquarters, 451 Seventh Street SW., Washington, DC 20410, HUD Field and Regional Offices,⁴ or at the locations of the service providers under contract with HUD.

⁴ http://portal.hud.gov/hudportal/documents/huddoc?id=append2.pdf.

CATEGORIES OF INDIVIDUALS COVERED BY THE SYSTEM:

TRACS categories of records include, records reported to HUD for each individual receiving housing assistance from HUD under the following programs: Section 8, Section 236 (including Section 236 RAP), Rent Supplement, Section 221(d)3 BMIR, Section 811, and Section 202 (e.g., all participants of certain HUD Rental Housing Assistance Programs); records for each Public Housing Authorities (PHA), PHA-owner or management agents who receives payments for these assisted housing programs (e.g., sole proprietors who administer these programs).

CATEGORIES OF RECORDS IN THE SYSTEM:

The system of records contains manual and automated records consisting of tenant information supplied to HUD from PHAs or PHA-owner or management agents; data supplied by the tenant, or through a third party verification process. The full extent of the data fields collected is detailed in the 202D MAT GUIDE.

The categories of records include, but are not limited to Tenant:

(1) Identification Information: Name; Social Security number (SSN); alien registration information; address and tenant unit number, date of birth, phone number, driver's license, email, DUNS number.

(2) Characteristics Information: Information about the family that would qualify them for certain adjustments or for admission to a project limited to a special population (e.g., elderly, handicapped or disabled), relationships of members of the household to the Head of household (e.g., spouse, child), sex and ethnicity of Head of household and their family members.

(3) Preference(s) Applicable to Family Admission: Income status at admission, adjustments to income, contract rent amount, tenant rent, unit characteristics such as number of bedrooms, tenant to determine eligibility or level of assistance.

(4) Verification Information: State wage information pertaining to collection agency on wages and claim information, information obtained through computer matching by HUD or a PHA with Federal and State agencies, information on the results of the follow-up phase of owner verifications or a computer match of tenant income (i.e., dollar amount of overpaid assistance, amount repaid, prosecution, termination of assistance, and termination of tenancy), and related correspondence.

(5) Geographic Information: Street address, zip code.

TRACS also include information reported to HUD by PHA or PHA-management or owner agents or contract administrators, as follows:

(1) PHA, PHA-owner or management agent's/contractor administrator's information: Manual and automated records on all their contractual agreements, and financial information (i.e., names, addresses, Taxpayer Identification Numbers (TINs) or SSNs, obligations, payments, and contract terms) for public housing agencies, and/or owners/management agents or contract administrators.

AUTHORITY FOR MAINTENANCE OF THE SYSTEM:

United States Housing Act of 1937, as amended, 42 U.S.C. 1437 et seq., The Housing and Community Development Act, 42 U.S.C § 3543, Section 165. The Housing and Community Development Amendments of 1981, Public Law 97-35, 95 Stat. 408. Housing and Community Development Act of 1987, Public Law 100-242, title I, § 165, Feb. 5, 1988, 101 Stat. 1864. Stewart B. McKinney Homeless Assistance Amendments Act of 1988 Section 904 as amended by the Housing and Community Development Act of 1992 Section 903, and the Omnibus Budget Reconciliation Act of 1993 Section 3003, 42 U.S.C. 3544.

PURPOSE(S):

TRACS accepts tenant and voucher request data to facilitate rental assistance for very low/low income households. It facilitates the payment to authorized owners/agents/housing authorities and/or contract administrators. TRACS has edit checks and functionality to verify data quality, and interfaces with other HUD systems exist to validate tenant income, verify contract funding, obligate and commit contract funds, provide information to other HUD divisions, and submit voucher requests for payment in order to try to minimize improper payments and fraud. TRACS provides data needed to: (1) Determine the amount of housing assistance tenants may receive, (2) Calculate payments due to PHAs, PHA-owners/management agents, or contract administrators, (3) Make budgets forecasts, (4) Control funds, (5) Collect and maintain accurate rental assistance data, (6) Automate and improve management of assisted housing programs, (7) Reduce manual processes and paperwork, and (8) Detect subsidy fraud, waste, and abuse in multifamily housing rental housing assistance programs. The assisted housing programs within TRACS' scope include:

• Section 236 Interest Reduction and Rental Assistance Payments.

• Section 8 New Construction/Substantial Rehabilitation Housing Assistance Payments.

• Section 8 Loan Management/Property Disposition Set-Aside Housing Assistance Payments.

• Section 221(d) (3) Below Market Interest Rate (BMIR) mortgage insurance.

• Rent Supplement Payments.

• Certain Section 202 programs.

• Section 202/811 Project Rental Assistance Payments.

ROUTINE USES OF RECORDS MAINTAINED IN THE SYSTEM, INCLUDING CATEGORIES OF USERS AND THE PURPOSES OF SUCH USES:

In addition to those disclosures generally permitted under 5 U.S.C. Section 552a(b) of the Privacy Act, all or a portion of the records or information contained in this system may be disclosed outside HUD as a routine use pursuant to 5 U.S.C. 552a(b)(3) as follows:

1. To appropriate agencies, entities, and persons to the extent such disclosures are compatible with the purpose for which the records in this system were collected, as set forth by Appendix I ⁵—HUD's Library of Routine Uses last published in the Federal Register.

⁵ http://portal.hud.gov/hudportal/documents/huddoc?id=routine_use_inventory.pdf.

2. To appropriate agencies, entities, and persons when:

(a) HUD suspects or has confirmed that the security or confidentiality of information in a system of records has been compromised;

(b) HUD has determined that as a result of the suspected or confirmed compromise there is a risk of harm to economic or property interests, identity theft or fraud, or harm to the security or integrity of systems or programs (whether maintained by HUD or another agency or entity) that rely upon the compromised information;

(c) HUD determines that the disclosure made to such agencies, entities, and persons is reasonably necessary to assist in connection with HUD's efforts to respond to the suspected or confirmed compromise and prevent, minimize, or remedy such harm for purposes of facilitating responses and remediation efforts in the event of a data breach.

7. To the National Archives and Records Administration (NARA) or to the General Services Administration for records management inspections conducted under 44 U.S.C. 2904 and 2906.

8. To individuals under contract, cooperative agreement or grant, to HUD or under contract, cooperative agreement or grant to another agency with funds provided by HUD for the performance of research and statistical activities directly related to the management of HUD's rental assistance programs, to support quality control for tenant eligibility efforts requiring a random sampling of tenant files to determine the extent of administrative errors in making rent calculations, eligibility determinations, etc., for processing certifications/recertifications, and for other research and statistical purposes not otherwise prohibited by law or regulation.

9. To Housing Authorities, (HAs) to verify the accuracy and completeness of tenant data used in determining eligibility and continued eligibility and the amount of housing assistance received.

10. To Private Owners of assisted housing to verify the accuracy and completeness of applicant and tenant data used in determining eligibility and continued eligibility and the amount of assistance received.

11. To HAs, owners, management agents and contract administrators to identify and resolve discrepancies in tenant data.

12. To the Internal Revenue Service to report income using IRS Form 1099.

13. To Social Security Administration and Immigration and Naturalization Service to verify alien status and continued eligibility in HUD's rental assistance programs via EIV.

14. To a congressional office from the record of an individual in response to an inquiry from that congressional office made at the request of the individual to whom the record pertains.

POLICIES AND PRACTICES FOR STORING, RETRIEVING, ACCESSING, RETAINING, AND DISPOSING OF RECORDS IN THE SYSTEM:

Storage:

Records in this system are stored electronically or on paper in secure facilities. The records may be stored on magnetic disc, tape, and digital media. Tenant data is stored at the National Archives and Records Administration (NARA) facility.

RETRIEVABILITY:

Name, address, SSN, or other identification number (contract or project numbers)

SAFEGUARDS:

Access to TRACS is by password and user ID and limited to authorized users. Paper records are maintained and locked drawer or in file cabinets. Role-based access levels or assignment roles are restricted to those who have a need-to-know. When first gaining access to TRACS and on an annual basis, all users must agree to the systems “Rules of Behavior” which specify handling of personal information and any physical records. Authorized users can download reports—the SSN is masked in both the system and reports during the download process.

RETENTION AND DISPOSAL:

Data is sent to NARA on a yearly basis. Paper records are destroyed by shredding or burning. Backup and Recovery digital media will be destroyed or otherwise rendered irrecoverable per NIST SP 800-88 Revision 1 “Guidelines for Media Sanitization” (December 2014). All records and data are retained and disposed of in accordance with guidance from the Records Disposition Management (2228.1) and the HUD Records Disposition Schedules Handbook (2225.6 Rev-1),⁶ as described in Records Disposition Schedule 10, Item 14.

⁶ http://portal.hud.gov/hudportal/documents/huddoc?id=22256x10ADMH.pdf.

SYSTEM MANAGER(S) AND ADDRESS:

For inquiries relating to TRACS, contact:

• Office of the Assistant Secretary for Housing, Director, Housing Information and Statistics Division, Office of Management; Office of Multifamily Housing Management, Director, Planning and Procedures Division; Deputy Assistant Secretary for Multifamily Housing Programs, Department of Housing and Urban Development, 451 Seventh Street SW., Washington, DC 20410, for Section 8, Section 236 (including Section 236 Rental Assistance Payments (RAP) projects), Rent Supplement, Section 221(d)3 BMIR, Section 811, and Section 202 activities.

• Office of Assistant Secretary for Public and Indian Housing: Office of Public Housing, Chief, Occupancy Branch, Department of Housing and Urban Development, 451 Seventh Street SW., Washington, DC 20410 for Public and Indian Housing and Section 8 existing and Moderate Rehabilitation (Mod Rehab) Program activities.

• Office of Public and Indian Housing, Director: Computer Matching Activities Division, Office of Public and Indian Housing, Comptroller, Department of Housing and Urban Development, 451 Seventh Street SW., Washington, DC 20410 for TRACS Computer Matching Activities.

NOTIFICATION AND RECORD ACCESS PROCEDURES:

For Information, assistance, or inquiries about the existence of records contact Helen Goff Foster, Chief Privacy Officer/Senior Agency Official for Privacy, 451 Seventh Street SW., Room 10139, Washington, DC 20410, telephone number (202) 402-6836. When seeking records about yourself from this system of records or any other HUD system of records, your request must conform with the Privacy Act regulations set forth in 24 CFR part 16. You must first verify your identity, meaning that you must provide your full name, current address, and date and place of birth. You must sign your request, and your signature must either be notarized or submitted under 28 U.S.C. 1746, a law that permits statements to be made under penalty of perjury as a substitute for notarization. In addition, your request should:

a. Explain why you believe HUD would have information on you.

b. Identify which Office of HUD you believe has the records about you.

c. Specify when you believe the records would have been created.

d. Provide any other information that will help the FOIA staff determine which HUD office may have responsive records.

If your request is seeking records pertaining to another living individual, you must include a statement from that individual certifying their agreement for you to access their records. Without the above information, the HUD FOIA Office may not be able to conduct an effective search, and your request may be denied due to lack of specificity or lack of compliance with applicable regulations.

CONTESTING RECORD PROCEDURES:

The Department's rules for contesting contents of records and appealing initial denials appear in 24 CFR part 16, Procedures for Inquiries. Additional assistance may be obtained by contacting Helen Goff Foster, Chief Privacy Officer/Senior Agency Official for Privacy, 451 Seventh Street SW., Room 10139, Washington, DC 20410, or the HUD Departmental Privacy Appeals Officers, Office of General Counsel, Department of Housing and Urban Development, 451 Seventh Street SW., Room 10110, Washington, DC 20410.

RECORD SOURCE CATEGORIES:

Records in the system are obtained from PHAs, PHA-owners, and management agents/Housing Authorities and/or Contract administrators on behalf of the assisted tenants. The basis for these electronic submissions to TRACS is the form HUD-50059, Owner's Certification of Compliance with HUD's Tenant Eligibility and Rent Procedures, and the form HUD-52670.

SYSTEMS EXEMPTED FROM CERTAIN PROVISIONS OF THE ACT:

None.

SYSTEM OF RECORDS NO.:

HSNG.MFH/HTHE.01.

SYSTEM NAME:

Development Application Processing System (DAP)—F24A.

SYSTEM LOCATION:

The system is hosted at the HUD data center in Charleston, West Virginia. Users have on-line access to the system at the Department of Housing and Urban Development Headquarters, 451 Seventh Street SW., Washington, DC 20410, HUD Field and Regional Offices,⁷ or at the locations of the service providers under contract with HUD.

⁷ http://portal.hud.gov/hudportal/documents/huddoc?id=append2.pdf.

CATEGORIES OF INDIVIDUALS COVERED BY THE SYSTEM:

The categories of individuals covered by DAP include both the Mortgagees and Mortgagors.

CATEGORIES OF RECORDS IN THE SYSTEM:

(1) Mortgagees Contact/Identification Information: Name, address, telephone, Social Security number (SSN).

(2) Application Data/Status: Financing (Federal Housing Administration, Risk Sharing, 202/811) application information and status.

(3) Mortgagors Contact/Identification Information: Name, personal/business address, telephone, tax identification number (TIN), SSN, employer identification number (EIN).

AUTHORITY FOR MAINTENANCE OF THE SYSTEM:

Sec. 113 of the Budget and Accounting Act of 1950, The National Housing Act (12 U.S.C. 1713 et seq., Pub. L. 81-784. The Housing and Community Development Act, 42 U.S.C. 3543, Section 165. National Housing Act (12 U.S.C. 1713 et seq.)

PURPOSE(S):

The DAP system supports processing and tracking of FHA applications, Healthcare, and the tracking and scoring of 202/811s (applications for financing the elderly and disabled.) The system provides comprehensive tracking and processing controls from the pre-application stage through the final endorsement/closing stage and monitors inspections for select Multifamily Housing Development programs. Detail business rules are automated to reduce errors, new project numbers are generated, lender/participant information collected, and data interfaced to other critical MFH systems. Additionally, the Form HUD-290 report is automatically generated at initial and final endorsement and triggers insurance in force activities in the FHA Subsidiary Ledger (FHASL).

ROUTINE USES OF RECORDS MAINTAINED IN THE SYSTEM, INCLUDING CATEGORIES OF USERS AND THE PURPOSES OF SUCH USES:

In addition to those disclosures generally permitted under 5 U.S.C. Section 552a(b) of the Privacy Act, all or a portion of the records or information contained in this system may be disclosed outside HUD as a routine use pursuant to 5 U.S.C. 552a(b)(3) as follows:

1. To appropriate agencies, entities, and persons to the extent such disclosures are compatible with the purpose for which the records in this system were collected, as set forth by Appendix I ⁸—HUD's Routine Uses Inventory Notice last published in the Federal Register.

⁸ http://portal.hud.gov/hudportal/documents/huddoc?id=routine_use_inventory.pdf.

2. To appropriate agencies, entities, and persons when:

(a) HUD suspects or has confirmed that the security or confidentiality of information in a system of records has been compromised;

(b) HUD has determined that as a result of the suspected or confirmed compromise there is a risk of harm to economic or property interests, identity theft or fraud, or harm to the security or integrity of systems or programs (whether maintained by HUD or another agency or entity) that rely upon the compromised information;

(c) HUD determines that the disclosure made to such agencies, entities, and persons is reasonably necessary to assist in connection with HUD's efforts to respond to the suspected or confirmed compromise and prevent, minimize, or remedy such harm for purposes of facilitating responses and remediation efforts in the event of a data breach.

4. To a congressional office from the record of an individual in response to an inquiry from that congressional office made at the request of the individual to whom the record pertains.

5. To the U.S. Treasury for disbursements and adjustments.

6. To the Internal Revenue Service for reporting payments for mortgage interest, for reporting of discharge indebtedness and real estate taxes.

POLICIES AND PRACTICES FOR STORING, RETRIEVING, ACCESSING, RETAINING, AND DISPOSING OF RECORDS IN THE SYSTEM:

Storage:

Records in this system are stored electronically or on paper in secure facilities in a locked drawer behind a locked door. The records may be stored on magnetic disc, tape, and digital media.

RETRIEVABILITY:

Electronic records may be retrieved by the project number, project name, office or hub, and Section of the Act (ACT) category. Search results can further be limited by phase/status and project characteristics. The participant's TAX ID/SSN/Name can be used to search for participants.

SAFEGUARDS:

Access to electronic systems is by password and code identification card access and limited to authorized users. Paper records are maintained and locked in file cabinets. Background screening, limited authorization and access with access limited to authorized personnel and technical restraints employed with regard to accessing the records; access to automated systems by authorized users by passwords.

RETENTION AND DISPOSAL:

This is in accordance with HUD's records schedule of retention and disposal. Manual files/records are sent to storage upon project receiving final endorsement to the storage facility in Tulsa, OK. Backup and Recovery digital media will be destroyed or otherwise rendered irrecoverable per NIST SP 800-88 Revision 1 “Guidelines for Media Sanitization” (December 2014). F24A DAP—Use HUD Record Schedule 56 as applicable. Disposition of the DAP records varies on the type of documents. Obsolete records are destroyed after 3 years. Disposition of Application Loan and Loan Agreement Files: Destroy 3 years after final settlement or paid in full. Disposition of Construction Contracts and related documents: Destroy 6 years after final payment. Disposition of Mortgage Transcript Documents Project and Asset Management Records: Destroy 3 years after repayment.

SYSTEM MANAGER(S) AND ADDRESS:

Director, Office of Multifamily Production, Office of Multifamily Housing, Department of Housing and Urban Development, 451 Seventh Street SW., Washington, DC 20410.

NOTIFICATION AND RECORD ACCESS PROCEDURES:

For Information, assistance, or inquiries about the existence of records contact Helen Goff Foster, Chief Privacy Officer/Senior Agency Official for Privacy, 451 Seventh Street SW., Room 10139, Washington, DC 20410, telephone number 202-402-6836. When seeking records about yourself from this system of records or any other HUD system of records, your request must conform with the Privacy Act regulations set forth in 24 CFR part 16. You must first verify your identity by providing your full name, current address, and date and place of birth. You must sign your request, and your signature must either be notarized or submitted under 28 U.S.C. 1746, a law that permits statements to be made under penalty of perjury as a substitute for notarization. In addition, your request should:

(1) Explain why you believe HUD would have information on you.

(2) Identify which HUD office you believe has the records about you.

(3) Specify when you believe the records would have been created.

(4) Provide any other information that will help the Freedom of Information Act (FOIA) staff determine which HUD office may have responsive records.

If you are seeking records pertaining to another living individual, you must obtain a statement from that individual certifying their agreement for you to access their records. Without the above information, the HUD FOIA Office may not be able to conduct an effective search, and your request may be denied due to lack of specificity or lack of compliance with applicable regulations.

CONTESTING RECORD PROCEDURES:

The Department's rules for contesting contents of records and appealing initial denials appear in 24 CFR part 16, Procedures for Inquiries. Additional assistance may be obtained by contacting Helen Goff Foster, Chief Privacy Officer/Senior Agency Official for Privacy, 451 Seventh Street SW., Room 10139, Washington, DC 20410, telephone number (202) 402-6836, or the HUD Departmental Privacy Appeals Officers, Office of General Counsel, Department of Housing and Urban Development, 451 Seventh Street SW., Washington, DC 20410

RECORD SOURCE CATEGORIES:

Records in the system are obtained from the applications for Multifamily Housing Projects; (HUD 9213) and other required HUD forms, drawings and narratives (lender's submission package) submitted to the HUD office.

SYSTEMS EXEMPTED FROM CERTAIN PROVISIONS OF THE ACT:

None.

[FR Doc. 2016-20005 Filed 8-19-16; 8:45 am]

BILLING CODE 4210-67-P